DEPARTMENT OF DEFENSE

Office of the Secretary

Vietnam War Commemoration Advisory Committee; Notice of Federal Advisory Committee Meeting

AGENCY: Department of Defense (DoD).

ACTION: Meeting notice.

SUMMARY: The Department of Defense is publishing this notice to announce the following Federal advisory committee meeting of the Vietnam War Commemoration Advisory Committee. This meeting is open to the public.

DATES: The public meeting of the Vietnam War Commemoration Advisory Committee (hereafter referred to as “the Committee”) will be held on Thursday, October 30, 2014. The meeting will begin at 1:00 p.m. and end at 4:00 p.m.

ADDRESSES: 214 McNair Rd, Spates Club & Conference Center, Bldg #407, Joint Base Myer-Henderson Hall, Ft Myer, VA 22211.

FOR FURTHER INFORMATION CONTACT: Committee's Designated Federal Officer: The committee's Designated Federal Officer is Mark Franklin, Vietnam War Commemoration, 1101 Wilson Blvd., Suite 810, Arlington VA 22209, mark.r.franklin.civ@mail.mil, 703-697-4849. For meeting information please contact Mr. Mark Franklin, mark.r.franklin.civ@mail.mil, 703-697-4849 or Ms Scherry Chewning, scherry.chewning.civ@mail.mil, 703-697-4908.

SUPPLEMENTARY INFORMATION: This meeting is being held under the provisions of the Federal Advisory Committee Act of 1972 (5 U.S.C., Appendix, as amended), the Government in the Sunshine Act of 1976 (5 U.S.C. 552b, as amended), and 41 CFR 102-3.150.

Purpose of the Meeting: At this meeting, the Committee will convene and receive a series of updates on the Vietnam War Commemoration. The mission of the Committee is to provide the Secretary of Defense, through the Director of Administration and Management (DA&M), independent advice and recommendations regarding major events and priority of efforts during the commemorative program for the 50th Anniversary of the Vietnam War, in order to achieve the objectives for the Commemorative Program.

Availability of Materials for the Meeting: A copy of the agenda for the Committee may be obtained from the Commemoration's Web site at http://vietnamwar50th.com. Copies will also be available at the meeting.

Meeting Agenda

1:00 p.m.-1:10 p.m. Convene with Committee Chairman Remarks

1:10 p.m.-4:00 p.m. Committee Meeting/Agenda items

• Opening Remarks

• Additional Committee Members Update

• Interagency Advisory Group Update

• Pentagon Corridor Project Update

• Joint Meeting of Congress Update

• Commemorative Partner Update

• Upcoming Major Events Update

• Discussion—increasing number of Vietnam War vets at events

• Closing remarks

4:00 p.m. Adjourn

Public's Accessibility to the Meeting: Pursuant to 5 U.S.C. 552b and 41 CFR 102-3.140 through 102-3.165, and the availability of space, this meeting is open to the public. All members of the public who wish to attend the public meeting must contact Mark Franklin or Ms. Scherry Chewning at the number listed in the FOR FURTHER INFORMATION CONTACT section. Please come prepared to present one form of photo identification to gain access to Ft Myer.

Special Accommodations: Individuals requiring special accommodations to access the public meeting should contact Mr. Mark Franklin or Ms. Scherry Chewning at least five (5) business days prior to the meeting so that appropriate arrangements can be made.

Procedures for Providing Public Comments

Pursuant to 41 CFR 102-3.140, and section 10(a)(3) of the Federal Advisory Committee Act of 1972, the public or interested organizations may submit written comments to the Commemoration about its mission and topics pertaining to this public meeting.

Written comments should be received by the DFO at least five (5) business days prior to the meeting date so that the comments may be made available to the Committee for their consideration prior to the meeting. Written comments should be submitted via email to the address for the DFO given in the FOR FURTHER INFORMATION CONTACT section in either Adobe Acrobat or Microsoft Word format. Please note that since the Committee operates under the provisions of the Federal Advisory Committee Act, as amended, all submitted comments and public presentations will be treated as public documents and will be made available for public inspection, including, but not limited to, being posted on the Commemoration's Web site.

Dated: October 8, 2014.
Aaron Siegel,
Alternate OSD Federal Register Liaison Officer, Department of Defense.

[FR Doc. 2014-24326 Filed 10-10-14; 8:45 am]

BILLING CODE 5001-06-P